DEPARTMENT OF THE INTERIOR

National Park Service

National Register of Historic Places; Notification of Pending Nominations and Related Actions

Nominations for the following properties being considered for listing or related actions in the National Register were received by the National Park Service before April 21, 2007. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by May 21, 2007.

J. Paul Loether,
Chief, National Register of Historic Places/National Historic Landmarks Program.

ARKANSAS

Carroll County

Green Forest Water Tower, (New Deal Recovery Efforts in Arkansas MPS) SE jct. of S. Springfield St. and E. Second St., Green Forest, 07000470

Columbia County

Waldo Water Tower, (New Deal Recovery Efforts in Arkansas MPS) E. Main St. W of the N. Skimmer and E. Main intersection, Waldo, 07000472

Howard County

Mineral Springs Waterworks, (New Deal Recovery Efforts in Arkansas MPS) S. of W. Runnels and S. Hall interesection, Mineral Springs, 07000473

Jefferson County

St. Louis Southwestern Railway (Cotton Belt Route) Relief Train, 1700 Port Rd., Pine Bluff, 07000471

Washington County

Beely-Johnson American Legion Post 139, (New Deal Recovery Efforts in Arkansas MPS) 200 N. Spring St., Springdale, 07000474

ILLINOIS

Du Page County

Coonley, Avery, School, 1400 Maple Ave., Downers Grove, 07000477

La Salle County

Westclox Manufacturing Plant Historic District, 300-315 5th St., Peru, 07000475

Williamson County

Williamson County Jail, 105 S. Van Buren St., Marion, 07000476

MICHIGAN

Ingham County

Prudden Wheel Company Building, 707 Prudden St., Lansing, 07000478

Iron County

Chicago, Milwaukee and Saint Paul Railway Iron River Depot, (Iron County MRA) 50 Fourth Ave., Iron, 07000479

MISSOURI

St. Francois County

East Columbia Historic District (Boundary Increase), 202 E. Columbia St., Farmington, 07000482

NEW YORK

Delaware County

Burns Family Farm, Crescent Valley Rd., Bovina, 07000486

Dutchess County

Warren Maonic Lodge #32, 1144 Centre Rd., Schultzville, 07000491

Erie County

Parke Apartments, 33 Gates Circle, Buffalo, 07000492

Kings County

House at 216-264 Ovington Ave., 216-264 Ovington Ave., Brooklyn, 07000488

Saitta House, 1135 84th St., Brooklyn, 07000480

Livingston County

Dansville Downtown Historic District, Main St., Ossian St., Dansville, 07000485

New York County

Ganesvoort Market Historic District, Roughly bounded by W 16th St., Ninth Ave., and Hudston St., Gansevoort St.; West St. and Eleventh Ave., New York, 07000487

House at 20 W. 16th St., 20 W. 16th St., New York, 07000484

St. Luke's Evangelical Lutheran Church, 208 W. 46th St., New York, 07000483

Niagara County

Bacon-Merchant-Moss House, (Stone Buildings of Lockport, New York MPS) 32 Cottage St., Lockport, 07000481

Carter, John, Farmstead, 206 Lake Rd., Youngstown, 07000490

Walter, Peter D., House, (Stone Buildings of Lockport, New York MPS) 127 Ontario St., Lockport, 07000489

OREGON

Deschutes County

Goodwillie—Allen—Rademacher House, 875 NW Brooks St., Bend, 07000493

TEXAS

Colorado County

Eagle Lake commercial Historic District,

100-416 E. Main St., 101-108 W. Main St., 101-124 Commerce St., 101-201 N. McCarty Ave., 100-203 E. Post Office St., Eagle Lake, 07000494

Matagorda County

South Side Residential Historic District, Roughly bounded by Ave. F, 2nd St., Ave. G, Ave. K, 4th St., Ave J, 5th St., 4th St., Bay City, 07000496

McLennan County

Castle Heights Historic District, Roughly bounded by Waco Dr., Oriental Rd., Franklin Ave. and 39th St., Waco, 07000495

VERMONT

Chittenden County

LeFarriere House, (Burlington, Vermont MPS AD) 171-173 Intervale Ave., Burlington, 07000499

Mintzer House, (Burlington, Vermont MPS AD) 175-177 Intervale Ave., Burlington, 07000498

Normand House, (Burlington, Vermont MPS AD) 163-165, 165 rear Intervale Ave., Burlington, 07000497

WISCONSIN

Pierce County

Freeman, Roscius S. and Lydia R., House, 220 N. Third St., River Falls, 07000501

Washington County

Messer-Mayer Mill, 4399 Pleasant Hill Rd., Richfield, 07000500

[FR Doc. E7-8588 Filed 5-3-07; 8:45 am]

BILLING CODE 4312-51-P